Proclamation 8904 of November 9, 2012

American Education Week, 2012

By the President of the United States of America

A Proclamation

All children deserve access to a world-class education and the chance to pursue their dreams. Our schools are a gateway to those opportunities and the key to our Nation's economic prosperity and civic life. This week, we reaffirm our national mission of educating our students and training our workers better than any other country on earth.

My Administration is committed to enhancing American education by raising standards, making higher education more affordable, and preparing students for high-skill jobs and civic participation. We launched Race to the Top—the most meaningful reform for our public schools in a generation—to invest in innovative State plans that support and improve teacher effectiveness and student achievement. We reconfigured the student loan program to eliminate wasteful subsidies to banks and put students' needs first, increasing financial aid for millions of young people. We also invested in training programs that partner community colleges with high-growth industries—making it possible for young Americans to graduate into the workforce equipped for success.

Each of us has a role to play in helping our students thrive. Dedicated teachers, administrators, and other education professionals work tirelessly on behalf of America's young people. Outside of the classroom, parents, mentors, community leaders, local businesses, and public institutions help foster a love of learning in our students, sparking creativity, instilling a positive work ethic, and giving our children the tools needed to realize their full potential.

America is a country where no matter what you look like or where you come from, if you are willing to work hard, you can go as far as your talents will take you. During American Education Week, we recommit to keeping the promise of education alive for this generation and the next, because when we give our children the best chance to succeed, there is no telling what they might accomplish.

NOW, THEREFORE, I, BARACK OBAMA, President of the United States of America, by virtue of the authority vested in me by the Constitution and the laws of the United States, do hereby proclaim November 11 to November 17, 2012, as American Education Week. I call upon all Americans to observe this week by supporting their local schools through appropriate activities, events, and programs designed to help create opportunities for every school and student in America.

IN WITNESS WHEREOF, I have hereunto set my hand this ninth day of November, in the year of our Lord two thousand twelve, and of the Independence of the United States of America the two hundred and thirty-seventh.

[FR Doc. 2012-27922

Filed 11-14-12; 8:45 am]

Billing code 3295-F3